DEPARTMENT OF VETERANS AFFAIRS

Advisory Committee: National Academic Affiliations Council, Notice of Meeting

The Department of Veterans Affairs (VA) gives notice under the Federal Advisory Committee Act that a meeting of VA's National Academic Affiliations Council (NAAC) will be held September 4, 2019-September 5, 2019 at the Phoenix VA Health Care System (PVAHCS), 650 E Indian School Road, Phoenix, AZ 85012. The meetings are open to the public, except when the NAAC is conducting tours of VA facilities, and participating in off-site events. Tours of VA facilities are closed to protect Veterans' privacy and personal information, in accordance with 5 U.S.C Sec. 552b(c)(6).

The purpose of the NAAC or “Council” is to advise the Secretary on matters affecting partnerships between VA and its academic affiliates.

On September 4, 2019, the Council will convene an open session from 9:00 a.m. to 12:45 p.m. The agenda will include a presentation on Innovative Academic Relationships: A National Perspective. The Council will have a panel discussion on PVAHCS's educational innovations and academic affiliates; and receive updates from the Diversity and Inclusion Subcommittee, the Strategic Academic Advisory Council (SAAC), and VA's Electronic Health Record Modernization Work Group as related to education and research. In the afternoon, the Council will begin the closed portion of the meeting from 12:45 p.m. to 4:00 p.m., as it tours the Phoenix VA Health Care System. Tours of VA facilities are closed to protect Veterans' privacy and personal information, in accordance with 5 U.S.C Sec. 552b(c)(6). The tour will end the first day.

On September 5, 2019, the Council will convene an open session and receive a presentation on VA Medical and Dental Education, and updates on the MISSION Act (Pub. L. 115-182) provisions related to health professions education. The Council will receive public comments from 11:30 a.m. to 11:45 a.m. and will adjourn the meeting at 12:00 p.m.

Interested persons may attend and present oral statements to the Council. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting, or at any time via email to Larissa.Emory@va.gov, or by mail to Larissa Emory PMP, CBP, MS, Designated Federal Officer, Department of Veterans Affairs, Veterans Health Administration, Office of Academic Affiliations (10X1), 810 Vermont Avenue NW, Washington, DC 20420. Any member of the public wishing to attend or seeking additional information should contact Ms. Emory via email or by phone at (915) 269-0465. Because the meeting will be held in a Government building, anyone attending must be prepared to submit to security screening and present a valid photo I.D. Please allow at least 30 minutes prior to the meeting for this process.

Dated: August 14, 2019.
Jelessa M. Burney,
Federal Advisory Committee Management Officer.

[FR Doc. 2019-17698 Filed 8-16-19; 8:45 am]

BILLING CODE 8320-01-P